DEPARTMENT OF COMMERCE

National Oceanic and Atmospheric Administration

[I.D. 032604C]

Magnuson-Stevens Act Provisions; General Provisions for Domestic Fisheries; Application for Exempted Fishing Permit (EFP)

AGENCY: National Marine Fisheries Service (NMFS), National Oceanic and Atmospheric Administration (NOAA), Commerce.

ACTION: Notification of a proposal for an EFP to conduct experimental fishing; request for comments.

SUMMARY: The Administrator, Northeast Region, NMFS (Regional Administrator) has made a preliminary determination that the subject EFP application contains all of the required information and warrants further consideration. The Regional Administrator has also made a preliminary determination that the activities authorized under the EFP would be consistent with the goals and objectives of the Atlantic Sea Scallop and Northeast Multispecies Fishery Management Plans (FMPs). However, consideration of comments on the proposal is required and further review and consultation may be necessary before a final determination is made that the activity will have no significant impacts on the human environment, and that the issuance of EFPs is warranted. Therefore, NMFS announces that the Regional Administrator has made a preliminary decision to issue the EFP that would allow three federally permitted fishing vessels to conduct fishing operations otherwise restricted by the regulations governing the Atlantic sea scallop and Northeast multispecies fisheries. The EFP would allow the federally permitted vessels to make 12 tows per vessel for a total of 36 tows to compare a standard scallop dredge using a 10-inch (25.4 cm) twine top to a standard scallop dredge using a 10-inch (25.4 cm) twine top with the addition of a Bycatch Reduction Device (BRD) equipped with a 6-inch (15.2 cm) mesh twine top panel between the 10-inch (25.4 cm) twine top and the ring apron in order to evaluate the feasibility of using a BRD in scallop dredge gear to reduce finfish bycatch. The EFP is necessary to exempt the vessel from scallop dredge twine top restrictions.

Regulations under the Magnuson-Stevens Fishery Conservation and Management Act (Magnuson-Stevens Act) require publication of this notification to provide interested parties the opportunity to comment on applications for proposed EFPs.

DATES: Comments must be received on or before 5 p.m. eastern standard time April 16, 2004.

ADDRESSES: Written comments should be sent to Patricia A. Kurkul, Regional Administrator, NMFS, Northeast Regional Office, 1 Blackburn Drive, Gloucester, MA 01930-2298. Mark the outside of the envelope “Comments on Scallop Dredge EFP Proposal.”

Comments submitted via e-mail should be sent to scallop.EFP1@Noaa.gov.

Comments may also be sent via facsimile (fax) to (978) 281-9135. A copy of the proposal is available from the Northeast Regional Office at the address stated above.

FOR FURTHER INFORMATION CONTACT: Don Frei, Fisheries Management Specialist, 978-281-9221.

SUPPLEMENTARY INFORMATION: Ronald Smolowitz, Coonamessett Farm, Inc., submitted an application to conduct an experimental fishery to test the feasibility of using an experimental southern shrimp trawl BRD and a 6-inch (15.2 cm) twine top panel (6 meshes wide by 80 meshes long) inserted into a standard 10-inch (25.4 cm) twine top on standard scallop dredge in either the Hudson Canyon Access Area or in the open areas of Georges Bank (GB). The proposed experiment would test a standard scallop dredge with a 10-inch (25.4 cm) mesh twine top panel against an experimental scallop dredge with a BRD panel inserted into the 10-inch (25.4 cm) mesh twine top panel. The BRD panel would consist of one metal framed BRD, each with a 12-inch (30.5 cm) wide opening, incorporated into a 6-inch (15.2 cm) mesh twine panel approximately 6 meshes wide by 80 meshes long.

The proposed experiment would be conducted as soon as possible following approval of the EFP, if the final decision is to grant the EFP. The participating vessels would be authorized to make 12 tows each in either the Hudson Canyon Access Area or the open areas of GB between depths of 20 and 50 fathoms. The proposed fishing areas on GB lie west of 67°00′ W. lat. and east of 70°00′ W. lat.; north of 40°00′ N. long. and south of 42°00′ N. long. Conducting the trips in open areas would allow the gear to be tested in areas of varying scallop and finfish abundance, as well as on different substrates. Information gathered from this experiment could be used in the consideration in future management actions under the FMP. If the BRDs can be successfully deployed in scallop gear, the researcher has stated that he is likely to request a subsequent EFP to conduct a more extensive study of BRDs as a bycatch reduction tool. The participating vessels would be allowed to retain the catch of scallops and the allowed levels of incidental catch of other species (e.g., 300 lb (136 kg) of regulated multispecies and monkfish) per trip. The EFP would allow exemptions from the following regulations under Fisheries of the Northeastern United States (50 CFR part 648): scallop dredge twine top restrictions specified at § 648.51(b)(4)(iv).

The proposed gear exemption is not expected to result in catch or bycatch beyond normal scallop operations. The only exemption is for an experimental BRD and a 6-inch (15.2 cm) twine top panel (6 meshes wide by 80 meshes long) inserted into a standard 10-inch (25.4 cm) twine top on a standard scallop dredge. The environmental impacts of this activity is not expected to exceed those already considered for the existing scallop fishery.

Authority: 16 U.S.C. 1801 et seq.

Dated: March 29, 2004.
Bruce C. Morehead,
Acting Director, Office of Sustainable Fisheries, National Marine Fisheries Service.

[FR Doc. 04-7344 Filed 3-31-04; 8:45 am]

BILLING CODE 3510-22-S